DEPARTMENT OF THE INTERIOR

Bureau of Indian Affairs

[201A2100DD/AAKC001030/A0A501010.999900253G]

Indian Gaming; Approval of Tribal-State Class III Gaming Compact in the State of North Carolina

AGENCY: Bureau of Indian Affairs, Interior.

ACTION: Notice.

SUMMARY: This notice publishes the approval of the Tribal-State Compact between the Catawba Indian Nation (Tribe) and the State of North Carolina (State).

DATES: The compact takes effect on March 25, 2021.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compact permits various types of gaming, including raffles, video games, gaming machines, sports wagering and horse racing wagering, and live table games on the Tribe's Indian lands. The Compact includes provisions requiring the Tribe to share revenue with the State from the Tribe's live table games revenue in exchange for live table games exclusivity within a defined geographic area. The Compact also obligates the Tribe to reimburse the State to defray costs incurred to regulate sports and horse wagering; provides that the Tribe will have the primary responsibility to administer and enforce regulatory requirements; permits the Tribe to operate up to three class III Gaming facilities on the Tribe's Indian lands; and remains in effect for 30 years from today's date, unless extended by the parties. Therefore, pursuant to my delegated authority and Section 11 of IGRA, the Compact is approved.

Darryl LaCounte,
Director, Bureau of Indian Affairs.

[FR Doc. 2021-06111 Filed 3-24-21; 8:45 am]

BILLING CODE 4337-15-P